NEIGHBORHOOD REINVESTMENT CORPORATION

Audit Committee Meeting of the Board of Directors; Sunshine Act

TIME & DATE: 1 p.m., Friday, September 21, 2012.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call to Order

II. Executive Session with Internal Audit Director

III. Executive Session with Officers

IV. Quality Assessment Review—Results & Survey

V. Amendment to the Audit Committee Charter

VI. Internal Audit Response with Management's Response

VII. FY 2013 Risk Assessment & Internal Audit Plan

VIII. Internal Audit Performance Scorecard

IX. Internal Audit Status Reports

X. National Foreclosure Mitigation Counseling (NFMC)/Emergency Homeowners Loan Program (EHLP) Update

XI. Posting of Internal Audit Reports

XII. CFO Update

XIII. OHTS Watch List NWO Update Affiliations/Disaffiliations

XIV. Adjournment

Erica Hall,
Assistant Corporate Secretary.

[FR Doc. 2012-22538 Filed 9-10-12; 11:15 am]

BILLING CODE 7570-02-P